DEPARTMENT OF ENERGY

Federal Energy Regulatory Commission

[Project No. 1494-215]

Grand River Dam Authority; Notice of ADR Teleconference Calls

April 29, 2004.

Pursuant to rule 601 of the Commission's rules of practice and procedure, 18 CFR ¶ 385.601 (2001), the Dispute Resolution Service will convene teleconference calls on Monday, May 3, 2004, and Wednesday, May 5, 2004, to discuss how the Alternative Dispute Resolution processes and procedures may assist the participants in resolving disputes related to fish entrainment matters in the above-docketed proceeding. A representative from the Federal Energy Regulatory Commission, Office of Energy Projects will participate on these calls. These will be teleconference calls with an 800 phone-in number, beginning at 2 p.m. central time and 3 p.m. eastern time each day and each will last approximately one hour.

Steven A. Shapiro and Jerrilynne Purdy, acting for the Dispute Resolution Service, will convene the teleconference calls. They will be available to communicate in private with any participant prior to the teleconference calls. If a participant has any questions regarding the teleconference calls and would be interested in participating in the calls, please contact Mr. Shapiro at 202/502-8894 or Ms. Purdy at 202/502-8671 or e-mail Steven.Shapiro@ferc.gov or Jerrilynne.Purdy@ferc.gov. Parties may also communicate with Richard Miles, the Director of the Dispute Resolution Service, at 1 877 FERC ADR (337-2237) or 202/502-8702 or by e-mail at Richard.Miles@ferc.gov.

Linda Mitry,
Acting Secretary.

[FR Doc. E4-1025 Filed 5-4-04; 8:45 am]

BILLING CODE 6717-01-P